DEPARTMENT OF TRANSPORTATION

Pipeline and Hazardous Materials Safety Administration

Hazardous Materials: Notice of Applications for Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before July 11, 2018.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with part 107 of the Federal hazardous materials transportation law (49 U.S.C. 5117(b); 49 CFR 1.53(b)).

Issued in Washington, DC, on June 4, 2018.
Donald P. Burger,
Chief, General Approvals and Permits Branch.

Special Permits Data
Application No. | Applicant | Regulation(s) affected | Nature of the special permits thereof
8009-M | FIBA TECHNOLOGIES, INC | 173.302a(a)(4), 178.37(k)(1), 178.37(k)(2)(i) | To authorize alternative tensile test specimen for batch acceptance.
20608-N | DEPARTMENT OF DEFENSE (MILITARY SURFACE DEPLOYMENT & DISTRIBUTION COMMAND) | 173.302a(a)(1) | To authorize the transportation in commerce of compressed air in non-DOT specification cylinders.
20642-N | SUN CHEMICAL CORPORATION | 173.3 | To authorize the one time movement of a DOT 407 cargo tank that was leaking hazmat for investigation/repair.
20643-N | KALITTA AIR, L.L.C | 172.101(j), 172.204(c)(3), 173.27(b)(2), 173.27(b)(3), 175.30(a)(1) | To authorize the transportation in commerce of certain explosives which are forbidden by cargo only aircraft.
20649-N | STERICYCLE, INC | 172.600, 172.700(a), 172.400a, 172.200, 172.300, 173.185(f) | To authorize the transportation in commerce of electronic cigarette products that include a power unit containing a small lithium ion battery in support of a voluntary recall on behalf of R.J. Reynolds Vapor Company.
Denied
13173-M | LUXFER CANADA LIMITED | 173.302a(a) | To modify the special permit to authorize periodic requalification of cylinders using a pneumatic proof pressure test.
20228-N | STRUCTURAL COMPOSITES INDUSTRIES LLC | 173.302(f)(3), 173.302(f)(4), 173.302(f)(5), 173.302a(a)(1), 173.304a(a)(1), 175.501(e)(3) | To authorize the manufacture, marking, sale, and use of non-DOT specification fully wrapped carbon fiber reinforced steel lined cylinders for the transportation in commerce.
20564-N | ACE Pyro, LLC | 177.848(g)(3)(vi) | To authorize the transportation in commerce of fireworks with explosive articles of compatibility group G.
20647-N | ADVANCED CHEMICAL TRANSPORT, INC | 173.242, 178.801(i) | To authorize the transportation in commerce of a non-spec bulk package (trap/canister/filter) containing a 4.2 hazmat.
Withdrawn
20435-M | ATIEVA USA INC | 172.101(j), 173.185(a) | To modify the special permit to authorize the transportation in commerce of lithium ion batteries in excess of 35 kg by cargo-only aircraft. (modes 1,2,4)
20598-N | Cylinder Testing Solutions LLC | 180.209(a), 180.209(b) | To authorize the transportation in commerce of certain hazardous materials in DOT Specification 3AL cylinders manufactured from aluminum alloy 6061-T6 that are requalified every ten years rather than every five years using 100% ultrasound examination.
20611-N | Deckload Aviation LLC | 172.101(j) | To authorize the transportation in commerce of hazardous materials in excess of the quantity limits specified in Column (9B) of the 172.101 when transported via rotorcraft external load operations.

[FR Doc. 2018-12456 Filed 6-8-18; 8:45 am]

BILLING CODE 4909-60-P